Title 3—

The President

Memorandum of August 2, 2013

Delegation of Authority Pursuant to Section 404(c) of the Child Soldiers Prevention Act of 2008, as Amended

Memorandum for the Secretary of State

By the authority vested in me as President by the Constitution and the laws of the United States of America, including section 301 of title 3, United States Code, I hereby delegate to the Secretary of State the authority conferred upon the President by the Child Soldiers Prevention Act of 2008 (title IV, Public Law 110-457), as amended (the “Act”), to determine, consistent with section 404(c) of the Act, whether to waive the application to Somalia of the prohibition in section 404(a) of the Act and whether such waiver is in the national interest of the United States, for fiscal year 2013.

You are authorized and directed to publish this memorandum in the Federal Register.

THE WHITE HOUSE,

Washington, August 2, 2013.

[FR Doc. 2013-29044

Filed 12-3-13; 8:45 am]

Billing code 4710-10